DEPARTMENT OF ENERGY

Federal Energy Regulatory Commission

[Project No. 14397-000]

Northern Wasco County People's Utility District; Notice of Preliminary Permit Application Accepted for Filing and Soliciting Comments, Motions To Intervene, and Competing Applications

On April 27, 2012, the Northern Wasco County People's Utility District (Northern Wasco) filed an application for a preliminary permit, pursuant to section 4(f) of the Federal Power Act (FPA), proposing to study the feasibility of the Freedom Hydroelectric Project (Freedom Project or project) to be located on the Columbia River, near Dallesport, Klickitat County, Washington. The project would affect lands administered by the Army Corps of Engineers (Corps). The sole purpose of a preliminary permit, if issued, is to grant the permit holder priority to file a license application during the permit term. A preliminary permit does not authorize the permit holder to perform any land-disturbing activities or otherwise enter upon lands or waters owned by others without the owners' express permission.

The proposed project would utilize the existing auxiliary water supply system for the north fishway fish ladder on the Corps' The Dalles Dam and would consist of the following: (1) A 150-foot-long and 25-foot-wide concrete intake channel structure; (2) two five-foot by five-foot sluice gates connecting the new intake channel structure to the existing intake channel structure; (3) a 20-foot-high, 120-foot-long, ⅛-inch bar by ⅛-inch opening fish screen; (4) a generation facility; (5) a new tailrace that would discharge to the existing discharge pool; and (6) a 9,000-foot-long 12.5-kilovolt radial transmission line. The estimated annual generation of the Freedom Project would be 39,000 megawatthours.

Applicant Contact: Dwight D. Langer, General Manager, Northern Wasco County People's Utility District, 2345 River Road, The Dalles, Oregon 97058; phone: (541) 298-3300.

FERC Contact: James Hastreiter; phone: (202) 552-2760.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14397) in the docket number field to access the document. For assistance, contact FERC Online Support.

Dated: October 31, 2012.
Kimberly D. Bose,
Secretary.

[FR Doc. 2012-27010 Filed 11-5-12; 8:45 am]

BILLING CODE 6717-01-P